DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Shipboard Observation Form for Floating Marine Debris.

OMB Control Number: 0648-0644.

Form Number(s): None.

Type of Request: Regular (extension of a currently approved information collection).

Number of Respondents: 5.

Average Hours per Response: 30 minutes.

Burden Hours: 3.

Needs and Uses: This request is for extension of a currently approved information collection.

This data collection project is coordinated by the NOAA Marine Debris Program, and involve recreational and commercial vessels (respondents), shipboard observers (respondents), NGOs (respondents) as well as numerous experts on marine debris observations at sea. The Shipboard Observation Form for Floating Marine Debris was created based on methods used in studies of floating marine debris by established researchers, previous shipboard observational studies conducted at sea by NOAA, and the experience and input of recreational sailors. The goal of this form is to be able to calculate the density of marine debris within an area of a known size. Additionally, this form will help collect data on potential marine debris resulting from future severe marine debris generating events in order to better model movement of the debris as well as prepare (as needed) for debris arrival. This form may additionally be used to collect data on floating marine debris in any water body.

Affected Public: Individuals or households; not for profit organizations.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 19, 2018.
Sarah Brabson,
NOAA PRA Clearance Officer.

[FR Doc. 2018-05802 Filed 3-21-18; 8:45 am]

BILLING CODE 3510-JE-P